DEPARTMENT OF TRANSPORTATION

Federal Highway Administration

Environmental Impact Statement: Kenosha, Racine, Milwaukee, Waukesha, Washington, Dodge, Fond Du Lac, Winnebago, Outagamie and Brown Counties, Wisconsin

AGENCY: Federal Highway Administration (FHWA), Department of Transportation.

ACTION: Revised Notice of Intent.

SUMMARY: The FHWA is issuing this revised notice to advise the public that FHWA and Wisconsin Department of Transportation (WisDOT) will not prepare a Tier 1 Environmental Impact Statement (EIS) for the proposed Interstate conversion of U.S. Highway 41 in Milwaukee, Waukesha, Washington, Dodge, Fond du Lac, Winnebago, Outagamie, and Brown Counties, Wisconsin. A Notice of Intent to prepare an EIS was published in the Federal Register on July 26, 2011.

FOR FURTHER INFORMATION CONTACT: Tracey Blankenship, Major Projects Program Manager, Federal Highway Administration, 525 Junction Road, Suite 8000, Madison, WI 53717; Telephone: (608) 829-7500. You may also contact Tammy Rabe, Wisconsin Department of Transportation, 944 Vanderperren Way, Green Bay, WI 54324; Telephone: 920-492-5661.

SUPPLEMENTARY INFORMATION: The FHWA, in cooperation with WisDOT, will not prepare an EIS as previously intended on a proposal to convert U.S. Highway 41 to an Interstate in Milwaukee, Waukesha, Washington, Dodge, Fond du Lac, Winnebago, Outagamie, and Brown Counties, Wisconsin. Under Sections 1304(b) and (c) of the Safe, Accountable, Flexible, Efficient, Transportation Equity Act—A Legacy for Users (SAFETEA-LU) the 142-mile U.S. Highway 41 corridor between Milwaukee and Green Bay was designated as a High Priority Corridor on the National Highway System and as a future part of the Interstate System.

FHWA and WisDOT selected a tiered EIS as the project's document type because of uncertainty about the project's level of controversy and potentially significant impacts caused by the Interstate's more restrictive oversize and overweight regulations, more restrictive off-property outdoor advertising regulations, the change in route number, and potential future improvements required to bring U.S. Highway 41 to Interstate standards. Input received from participating agencies, cooperating agencies, the public, the business community, trucking industry and outdoor advertising industry, throughout the project as well as at 6 public information meetings held in May 2012, has shown support for the project and a lack of controversy. Impacts of installing Interstate signs and future improvements related to the Interstate conversion were analyzed to determine impacts on socioeconomic and natural resources as well as the trucking and outdoor advertising industries. As a result of this analysis, FHWA and WisDOT determined that Interstate conversion meets the definition of a categorical exclusion as described in 23 CFR 771.117 and 40 CFR 1508.4, and based on past experience with similar actions, does not have significant environmental impacts. FHWA and WisDOT will complete an Environmental Report to document environmental analyses, impacts of the proposed project, and the detailed basis for the determination that the project meets the definition of a categorical exclusion. At a February 2013 meeting, Participating and Cooperating Agencies, including USEPA, Wisconsin DNR, and USACE, concurred with FHWA's and WisDOT's proposal. FHWA and WisDOT will continue agency coordination and public involvement activities with the change in document type.

(Catalog of Federal Domestic Assistance Program Number 20.205, Highway Planning and Construction. The regulations implementing Executive Order 12372 regarding intergovernmental consultation on Federal programs and activities apply to this program.)

Electronic Access

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48.

Issued on: June 13, 2013.
George R. Poirier,
Division Administrator, Federal Highway Administration, Madison, Wisconsin.

[FR Doc. 2013-14563 Filed 6-20-13; 8:45 am]

BILLING CODE 4910-22-P